DEPARTMENT OF HEALTH AND HUMAN SERVICES

Food and Drug Administration

Request for Nominations for Voting Members on Public Advisory Committee; Veterinary Medicine Advisory Committee

AGENCY: Food and Drug Administration, HHS.

ACTION: Notice.

SUMMARY: The Food and Drug Administration (FDA) is requesting nominations for voting members to serve on the Veterinary Medicine Advisory Committee (VMAC) in one of the following specialty areas: Pharmacology, Minor Species/Minor Use Veterinary Medicine, and pathology. Nominations for the VMAC chairperson are also being solicited. Information regarding the committee can be found on the CVM home page at http://www.fda.gov/cvm/index/vmac/vmactoc.htm.

FDA has a special interest in ensuring that women, minority groups, and the physically challenged are adequately represented on advisory committees and, therefore, encourages nominations of qualified candidates from these groups.

DATES: FDA is seeking nominations for voting members, as well as, nominations for the VMAC chairperson by May 15, 2002. Because scheduled vacancies occur on various dates throughout each subsequent year, no cutoff date for those specialty areas has been established.

ADDRESSES: All nominations and curricula vitae should be sent to the appropriate contact person in the FOR FURTHER INFORMATION CONTACT section of this document.

FOR FURTHER INFORMATION CONTACT:

Regarding nominations except for consumer representatives: Aleta Sindelar, Center for Veterinary Medicine, Food and Drug Administration, 7519 Standish Pl., Rockville, MD 20855, 301-827-4515, e-mail: asindela@cvm.fda.gov.

Regarding nominations for consumer representatives: Linda Sherman, Advisory Committee Oversight and Management Staff (HF-4), Food and Drug Administration, 5600 Fishers Lane, Rockville, MD 20857.

SUPPLEMENTARY INFORMATION: FDA is requesting nominations for voting members to serve on the committee. The function of the VMAC is to advise the Commissioner of Food and Drugs (the Commissioner) in discharging their responsibilities as they relate to assuring safe and effective drugs, feeds and feed additives, and devices for animal use, and, as required, any other product for which FDA has regulatory responsibility. The committee reviews and evaluates available data concerning the safety and effectiveness of marketed and investigational new animal drugs, feeds, and devices for use in the treatment and prevention of animal diseases and increased animal production, and makes appropriate recommendations to the Commissioner regarding scientific issues and regulatory policies.

Qualifications

Persons nominated for membership on the committee shall have adequately diversified experience that is appropriate to the work of the committee in such fields as companion animal medicine, food animal medicine, avian medicine, microbiology, biometrics, toxicology, pathology, pharmacology, animal science, public health/epidemiology, Minor Species/Minor Use Veterinary Medicine, and chemistry. The specialized training and experience necessary to qualify the nominee as an expert suitable for appointment is subject to review, but may include experience in medical practice, teaching, and/or research relevant to the field of activity of the committee. The term of office is 4 years. The committee currently has three vacancies and is requesting nominations for voting members to serve on one of the following specialty areas: Pharmacology, Minor Species/Minor Use Veterinary Medicine, and pathology. Nominations for the VMAC chairperson are also being solicited.

Nomination Procedures

Any interested person may nominate one or more qualified persons for membership on one or more of the advisory committees. Self-nominations are also accepted. Nominations shall include the name of the committee, a complete curriculum vitae of each nominee, current business address and telephone number, and shall state that the nominee is aware of the nomination, is willing to serve as a member, and appears to have no conflict of interest that would preclude membership. FDA will ask the potential candidates to provide detailed information concerning such matters as financial holdings, employment, and research grants and/or contracts to permit evaluation of possible sources of conflict of interest.

This notice is issued under the Federal Advisory Committee Act (5 U.S.C. app. 2) and 21 CFR part 14 relating to advisory committees.

Dated: May 2, 2002.
Bonnie Malkin,
Acting Senior Associate Commissioner for Communications and Constituent Relations.

[FR Doc. 02-11787 Filed 5-10-02; 8:45 am]

BILLING CODE 4160-01-S